DEPARTMENT OF THE TREASURY

Office of Foreign Assets Control

Sanctions Actions Pursuant to Executive Order of October 27, 2006, “Blocking Property of Certain Persons Contributing to the Conflict in the Democratic Republic of the Congo”

AGENCY: Office of Foreign Assets Control, Treasury.

ACTION: Notice.

SUMMARY: The Department of the Treasury's Office of Foreign Assets Control (OFAC) is publishing the names of one individual and one entity whose property and interests in property are blocked pursuant to the executive order of October 27, 2006, “Blocking Property of Certain Persons Contributing to the Conflict in the Democratic Republic of the Congo,” as amended by the executive order of July 8, 2014, “Taking Additional Steps to Address the National Emergency With Respect to the Conflict in the Democratic Republic of the Congo.”

DATES: OFAC's actions described in this notice were effective June 1, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac).

Notice of OFAC Actions

On June 1, 2017, OFAC blocked the property and interests in property of the following individual and entity pursuant to E.O. 13413, “Blocking Property of Certain Persons Contributing to the Conflict in the Democratic Republic of the Congo,” as amended by E.O. 13671, “Taking Additional Steps to Address the National Emergency With Respect to the Conflict in the Democratic Republic of the Congo”:

Individual

OLENGA, Francois (Latin: OLENGA, François) (a.k.a. OKUNJI, Francois (Latin: OKUNJI, François); a.k.a. OLENGA TATE, Francois; a.k.a. OLENGA TETE, Francois (Latin: OLENGA TETE, François); a.k.a. OTSHUNDI, Francois (Latin: OTSHUNDI, François)), Kinshasa, Congo, Democratic Republic of the; DOB 09 Oct 1948; alt. DOB 10 Sep 1948; alt. DOB 10 Jul 1949; POB Kindu, Maniema, Democratic Republic of the Congo; nationality Congo, Democratic Republic of the; citizen Congo, Democratic Republic of the; Gender Male; General; Chef de la Maison Militaire; Head of the Military House of the President (individual) [DRCONGO]. Designated pursuant to section 1(a)(ii)(E) of Executive Order 13413, as amended by Executive Order 13671.

Entity

SAFARI CLUB (a.k.a. CENTRE DE LOISIR SAFARI CLUB; a.k.a. “SAFARI BEACH”), Nsele, Kinshasa, Congo, Democratic Republic of the; Gombe, Kinshasa, Congo, Democratic Republic of the; Registration ID 1322 (Congo, Democratic Republic of the) [DRCONGO] (Linked To: OLENGA, Francois). Designated pursuant to section 1(a)(ii)(G) of Executive Order 13413, as amended by Executive Order 13671.

Dated: June 1, 2017.
Andrea Gacki,
Acting Director, Office of Foreign Assets Control.

[FR Doc. 2017-11673 Filed 6-5-17; 8:45 am]

BILLING CODE 4810-AL-P